SMALL BUSINESS ADMINISTRATION

[Declaration of Disaster #P002]

State of North Carolina

As a result of the President's major disaster declaration for Public Assistance on December 12, 2002, the U.S. Small Business Administration is activating its disaster loan program only for private non-profit businesses that provide essential services of a governmental nature. I find that Alamance, Alexander, Anson, Burke, Cabarrus, Catawba, Chatham, Cleveland, Davidson, Durham, Franklin, Gaston, Granville, Guilford, Halifax, Harnett, Iredell, Lee, Lincoln, McDowell, Mecklenburg, Montgomery, Moore, Nash, Orange, Person, Randolph, Rowan, Rutherford, Stanly, Union, Vance, and Wake Counties in the State of North Carolina constitute a disaster area due to damages caused by a severe ice storm occurring from December 4, 2002, and continuing through December 6, 2002. Applications for loans for physical damage as a result of this disaster may be filed until the close of business on February 10, 2003 at the address listed below or other locally announced locations: Small Business Administration, Disaster Area 2 Office, One Baltimore Place, Suite 300, Atlanta, GA 30308.

The interest rates are:

| Percent
For Physical Damage:
Non-profit organizations without credit available elsewhere | 3.324
Non-profit organizations with credit available elsewhere | 5.500

The number assigned to this disaster for physical damage is P00211.

(Catalog of Federal Domestic Assistance Program Nos. 59008)
Dated: December 13, 2002.
Herbert L. Mitchell,
Associate Administrator for Disaster Assistance.

[FR Doc. 02-32252 Filed 12-20-02; 8:45 am]

BILLING CODE 8025-01-P